DEPARTMENT OF ENERGY

Federal Energy Regulatory Commission

[Docket No. CP00-141-000]

Northwest Pipeline Corporation; Notice of Application

April 7, 2000.

Take notice that on March 28, 2000, Northwest Pipeline Corporation (Northwest), 295 Chipeta Way, Salt Lake City, Utah 84158, filed in Docket No. CP00-141-000 an application pursuant to Sections 7(c) and 7(b) of the Natural Gas Act for permission and approval for Northwest to construct and operate relocated replacement pipeline segments and to abandon the replaced pipeline segments, near the White River in King County, Washington to preserve the integrity of Northwest's mainline while the river migrates, all as more fully set forth in the application which is on file with the Commission and open to public inspection. This filing may be viewed on the web at http://www.ferc.fed.us/online/rims.htm (call 202-208-2222 for assistance).

Northwest proposes to replace approximately 1,900 feet of both its 26-inch mainline and its 30-inch mainline loop on either side of the White River by installing new 26-inch and 30-inch pipelines at a lower depth and offset from its existing right-of-way and then abandoning the replaced pipeline segments by removal. Northwest also proposes to remove a previously retired 665-foot segment of 26-inch pipeline crossing the White River.

Northwest states that due to potential issues with threatened species in the White River, Northwest is seeking case-specific approvals herein rather than pursuing this pipeline replacement project under its existing blanket certificate authority.

Northwest declares that the total estimated cost for the proposed project is approximately $5,604,000, comprised of approximately $3,871,000 for the installation of replacement pipeline and approximately $1,733,000 for removal of replaced pipeline and appurtenances. Since this project is designed to maintain safety and reliability of Northwest's transmission system for the benefit of existing customers. Northwest requests all project costs should be permitted rolled-in treatment in Northwest's next rate case, as dictated by FERC's Policy Statement issued September 15, 1999, in Docket No. PL99-3-000.

Any questions regarding the application should be directed to Gary Kotter, Manager, Certificates, at (801) 584-7117 (voice) and (801) 584-7764 (fax), Northwest Pipeline Corporation, P.O. Box 58900, Salt Lake City, Utah 84158.

Any person desiring to be heard or to make any protest with reference to said Application should on or before April 28, 2000, file with the Federal Energy Regulatory Commission, 888 First Street, NE, Washington, DC 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

David P. Boergers,
Secretary.

[FR Doc. 00-9169 Filed 4-12-00; 8:45 am]

BILLING CODE 6717-01-M